FEDERAL DEPOSIT INSURANCE CORPORATION

Sunshine Act; Notice of Agency Meeting

Pursuant to the provisions of the “Government in the Sunshine Act” (5 U.S.C. 552b), notice is hereby given that the Federal Deposit Insurance Corporation's Board of Directors will meet in open session at 2 p.m. on Tuesday, May 9, 2006, to consider the following matters:

Summary Agenda: No substantive discussion of the following items is anticipated. These matters will be resolved with a single vote unless a member of the Board of Directors requests that an item be moved to the discussion agenda.

Disposition of minutes of previous Board of Directors' meetings.

Summary reports, status reports, and reports of actions taken pursuant to authority delegated by the Board of Directors.

Memorandum and resolution re: Interagency Statement on Sound Practices Concerning Elevated Risk Complex Structured Finance Activities.

Discussion Agenda:

Memorandum re: Economic Conditions and Emerging Risks in Banking for the Second Semiannual Assessment Period of 2006.

Memorandum re: DIF Assessment Rates for the Second Semiannual Assessment Period of 2006.

Memorandum and resolution re: Notice of Proposed Rulemaking to Implement the One-time Assessment Credit.

Memorandum and resolution re: Notice of Proposed Rulemaking to Implement Dividend Requirements.

Memorandum and resolution re: Proposed Amendments to Part 327 to Improve the Operational Processes Governing the FDIC's Deposit Insurance Assessment System.

Memorandum and resolution re: Interagency Notice of Proposed Rulemaking Regarding Identity Theft Red Flags and Address Discrepancies under Sections 114 and 315 of the FACT Act.

The meeting will be held in the Board Room on the sixth floor of the FDIC Building located at 500-17th Street, NW., Washington, DC.

The FDIC will provide attendees with auxiliary aids (e.g., sign language interpretation) required for this meeting. Those attendees needing such assistance should call (703) 562-6067 (Voice or TTY), to make necessary arrangements.

Requests for further information concerning the meeting may be directed to Ms. Valerie J. Best, Assistant Executive Secretary of the Corporation, at (202) 898-7122.

Dated: May 2, 2006.
Federal Deposit Insurance Corporation.
Valerie J. Best,
Assistant Executive Secretary.

[FR Doc. 06-4268 Filed 5-2-06; 3:29 pm]

BILLING CODE 6714-01-M